DEPARTMENT OF DEFENSE

Department of the Navy

[Docket ID USN-2009-0002]

Privacy Act of 1974; System of Records

AGENCY: U.S. Marine Corps, DoD.

ACTION: Notice to amend a system of records.

SUMMARY: The U.S. Marine Corps is proposing to amend a system of records notice in its existing inventory of record systems subject to the Privacy Act of 1974, (5 U.S.C. 552a), as amended.

DATES: This proposed action will be effective without further notice on March 19, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 11, 2009.
Morgan E. Frazier,
Alternate OSD Federal Register Liaison Officer, Department of Defense.

MMC00002

SYSTEM NAME:

Working Files, Inspection Division (August 3, 1993, 58 FR 41254).

CHANGES:

Change System ID to “M05040-1.”

* * * * *

CATEGORY OF RECORDS:

Delete entry and replace with “Individual's name, Social Security Number (SSN), case number, former military number, rank, dates and places of service, file also contains information pertaining to identification, recruitment, enlistment, prior service, assignment, location addresses, promotions, reductions in rank, performance of duty, discipline, offenses and punishments under the Uniform Code of Military Justice, courts-martial, personal history, investigations, police and court records, civil arrests and convictions, Official correspondence (includes internal Marine Corps and Department of the Navy correspondence, as well as correspondence with the Executive and Legislative branches of the federal government) and other correspondence (includes correspondence from Marines, their dependents and families, attorneys, doctors, educators, clergymen and members of the general public whether addressed directly to the Marine Corps or via third parties (president, congressmen, etc.)).”

AUTHORITY FOR MAINTENANCE OF THE SYSTEM:

Delete entry and replace with “10 U.S.C. 5014, Secretary of the Navy; 10 U.S.C. 5041; Headquarters, Marine Corps; 10 U.S.C. 5020, Naval Inspector General: details; duties; SECNAVINST 5430.57G, Mission and Functions of the Naval Inspector General, December 29, 2005; MCO 5430.1 Marine Corps Inspector General Program; November 13, 2006 and E.O. 9397 (SSN).”

PURPOSE(S):

Delete entry and replace with “To determine the facts and circumstances surrounding allegations or complaints against Department of the Navy personnel and/or Navy/Marine Corps activities.

To present findings, conclusions and recommendations developed from investigations and other inquiries to the Secretary of the Navy, Chief of Naval Operations, Commandant of the Marine Corps, or other appropriate Commanders.”

* * * * *

STORAGE:

Delete entry and replace with “File folders and electronic storage media.”

RETRIEVABILITY:

Delete entry and replace with “By subject's or complainant's name; case name and other case fields.”

SAFEGUARDS:

Delete entry and replace with “Building where files are stored and maintained employs 24 hour security guards. Records are further stored in areas of controlled access and handled by personnel with a need-to-know in the execution of their official duties. Additionally, access to electronic records is restricted only by authorized persons who are properly screened. This system is password and/or System software uses Primary Key Infrastructure (PKI)/Common Access Card (CAC) protected. Based on user profiles, there are different levels of access. Full access to information maintained in the database is available only to authorized Agency personnel with established official need-to-know. Records are maintained in secure, limited access, or monitored work areas accessible only to authorized personnel.”

RETENTION AND DISPOSAL:

Delete and replace with “Destroy when six years old and shred beyond recognition, as required by current Marine Corps personally identifiable information disposal procedures.”

* * * * *

NOTIFICATION PROCEDURE:

Delete entry and replace with “Individuals seeking to determine whether information about themselves is contained in this system should address written inquiries to the Commandant of the Marine Corps (Code IGA), Headquarters, U.S. Marine Corps, Washington, DC 20380-1775.

Written requests for information should contain the full name of the individual and Social Security Number (SSN) or former military service number. The following information will also be helpful in locating some records; military rank and occupational specialty, dates and places of service, and any special correspondence previously received or sent.”

RECORD ACCESS PROCEDURES:

Delete entry and replace with “Individuals seeking access to information about themselves contained in this system should address written inquiries to the Commandant of the Marine Corps (Code IGA), Headquarters, U.S. Marine Corps, Washington, DC 20380-1775. However, final determination as to whether any information will be released or made available will be controlled by the system manager.

Written requests for information should contain the full name of the individual and Social Security Number or former military service number. The following information will also be helpful in locating some records; military rank and occupational specialty, dates and places of service, and any special correspondence previously received or sent.”

CONTESTING RECORD PROCEDURES:

Delete entry and replace with “The USMC rules for contesting contents and appealing initial agency determinations are published in Secretary of the Navy Instruction 5211.5E; 32 CFR part 701; or may be obtained from the system manager.”

* * * * *

M05040-1

SYSTEM NAME:

Working Files, Inspection Division.

SYSTEM LOCATION:

Headquarters, U.S. Marine Corps, Washington, DC 20380-1775.

CATEGORIES OF INDIVIDUALS COVERED BY THE SYSTEM:

Members of the U.S. Marine Corps and Marine Corps Reserve; former members of the Marine Corps and Marine Corps Reserve; retired and temporarily retired members of the Marine Corps and Marine Corps Reserve; and members of the Fleet Marine Corps Reserve; military personnel. Dependents of Marines and other family members with respect to matters pertaining to the individual Marine or former Marine.

CATEGORIES OF RECORDS IN THE SYSTEM:

Individual's name, Social Security Number (SSN), case number, former military number, rank, dates and places of service, file also contains information pertaining to identification, recruitment, enlistment, prior service, assignment, location addresses, promotions, reductions in rank, performance of duty, discipline, offenses and punishments under the Uniform Code of Military Justice, courts-martial, personal history, investigations, police and court records, civil arrests and convictions, Official correspondence (includes internal Marine Corps and Department of the Navy correspondence, as well as correspondence with the Executive and Legislative branches of the federal government) and other correspondence (includes correspondence from Marines, their dependents and families, attorneys, doctors, educators, clergymen and members of the general public whether addressed directly to the Marine Corps or via third parties (president, congressmen, etc.)).

AUTHORITY FOR MAINTENANCE OF THE SYSTEM:

10 U.S.C. 5014, Secretary of the Navy; 10 U.S.C. 5041; Headquarters, Marine Corps; 10 U.S.C. 5020, Naval Inspector General: details; duties; SECNAVINST 5430.57G, Mission and Functions of the Naval Inspector General, December 29, 2005; MCO 5430.1 Marine Corps Inspector General Program; November 13, 2006 and E.O. 9397 (SSN).

PURPOSE(S):

To determine the facts and circumstances surrounding allegations or complaints against Department of the Navy personnel and/or Navy/Marine Corps activities.

To present findings, conclusions and recommendations developed from investigations and other inquiries to the Secretary of the Navy, Chief of Naval Operations, Commandant of the Marine Corps, or other appropriate Commanders.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Marine Corps compilation apply to this system.

Congress of the U.S.—By the Senate or the House of Representatives of the U.S. or any committee or subcommittee thereof on matters within their jurisdiction requiring disclosure of the files of the system.

POLICIES AND PRACTICES FOR STORING, RETRIEVING, ACCESSING, RETAINING, AND DISPOSING OF RECORDS IN THE SYSTEM:

STORAGE:

File folders and electronic storage media.

RETRIEVABILITY:

By subject's or complainant's name; case name and other case fields.

SAFEGUARDS:

Building where files are stored and maintained employs 24 hour security guards. Records are further stored in areas of controlled access and handled by personnel with a need-to-know in the execution of their official duties. Additionally, access to electronic records is restricted only by authorized persons who are properly screened. This system is password and/or System software uses Primary Key Infrastructure (PKI)/Common Access Card (CAC) protected. Based on user profiles, there are different levels of access. Full access to information maintained in the database is available only to authorized Agency personnel with established official need-to-know. Records are maintained in secure, limited access, or monitored work areas accessible only to authorized personnel.

RETENTION AND DISPOSAL:

Destroy when six years old and shred beyond recognition, as required by current Marine Corps personally identifiable information disposal procedures.

SYSTEM MANAGER(S) AND ADDRESS:

The Commandant of the Marine Corps, Headquarters, U.S. Marine Corps, Washington, DC 20380-1775.

NOTIFICATION PROCEDURE:

Individuals seeking to determine whether information about themselves is contained in this system should address written inquiries to the Commandant of the Marine Corps (Code IGA), Headquarters, U.S. Marine Corps, Washington, DC 20380-1775.

Written requests for information should contain the full name of the individual and Social Security Number (SSN) or former military service number. The following information will also be helpful in locating some records; military rank and occupational specialty, dates and places of service, and any special correspondence previously received or sent.

RECORD ACCESS PROCEDURES:

Individuals seeking access to information about themselves contained in this system should address written inquiries to the Commandant of the Marine Corps (Code IGA), Headquarters, U.S. Marine Corps, Washington, DC 20380-1775. However, final determination as to whether any information will be released or made available will be controlled by the system manager.

Written requests for information should contain the full name of the individual and Social Security Number or former military service number. The following information will also be helpful in locating some records; military rank and occupational specialty, dates and places of service, and any special correspondence previously received or sent.

CONTESTING RECORD PROCEDURES:

The USMC rules for contesting contents and appealing initial agency determinations are published in Secretary of the Navy Instruction 5211.5E; 32 CFR part 701; or may be obtained from the system manager.

RECORD SOURCE CATEGORIES:

Information in the system is obtained from the Marine Corps Manpower Management System; the Joint Uniform Military Pay System; Marine Corps Military Personnel Records to include the Service Record Book and Officer Qualification Record; Military Medical Records; Staff elements and subdivisions of Headquarters, U.S. Marine Corps; Marine Corps field commands, organizations and activities; other components of the Department of Defense; Agencies of Federal, State and local government; private citizens provided as character references by the individual; investigations related to disciplinary proceedings; and correspondence of private citizens addressed directly to the Marine Corps or via third parties such as members of Congress and other government agencies.

EXEMPTIONS CLAIMED FOR THE SYSTEM:

None.

[FR Doc. E9-3371 Filed 2-13-09; 8:45 am]

BILLING CODE 5001-06-P